DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Division of Independent Review Grant Reviewer Recruitment Form—New

HRSA's Division of Independent Review (DIR) is responsible for carrying out the independent and objective review of all eligible applications submitted to HRSA. DIR ensures that the independent review process is efficient, effective, economical and complies with statutes, regulations and policies. The review of applications is performed by people knowledgeable in the field of endeavor for which support is requested and is advisory to individuals in HRSA responsible for making award decisions.

To streamline the collection, selection and assignment of grant reviewers to objective review committees, HRSA will utilize a web-based data collection form to gather critical reviewer information. The Grant Reviewer Recruitment Form will standardize pertinent categories of reviewer information, such as areas of expertise, occupation, work settings, reviewer experience, and allow maximum use of drop-down menus to simplify for the data collection process. All self-nominated reviewers will be channeled to the Grant Reviewer Recruitment Form; DIR anticipates a monthly volume of approximately 100 self-nominated responses. On a periodic basis, existing HRSA reviewers will be notified and directed to update their profile (via the Grant Reviewer Recruitment Form). HRSA maintains a pool of approximately 5,000 individuals that have previously served on HRSA objective review committees; DIR projects that approximately 3,700 individuals (or 75% of existing reviewers) would comply with instructions to update their profile on the web-based Recruitment Form.

For existing HRSA reviewers, the amount of time required to complete the Recruitment Form will be abbreviated since HRSA will fill-in the Form with previously collected personal information; existing reviewers will focus only on updating changes (e.g., addresses, employer, expertise, occupation) to their profile.

The estimate of burden for the HRSA Grant Reviewer Recruitment Form is as follows:

Type of respondent* | Number of respondents | Responses per respondent | Total responses | Minutes per response (minutes) | Total burden hours
New reviewer | 1,200 | 1 | 1,200 | 45 | 900
Existing reviewer | 3,700 | 1 | 3,700 | 30 | 1850
Total | 2,750
* Includes two categories of grant reviewers: 1) new or self-nominated reviewers that have never served as a HRSA grant reviewer and 2) existing reviewers that have previously served on a HRSA objective review committee.

Send comments to Susan G. Queen, Ph.D., HRSA Reports Clearance Officer, Room 14-45, Parklawn Building, 5600 Fishers Lane, Rockville, MD 20857. Written comments should be received within 60 days of this notice.

Dated: April 14, 2004.
Tina M. Cheatham,
Director, Division of Policy Review and Coordination.

[FR Doc. 04-8950 Filed 4-20-04; 8:45 am]

BILLING CODE 4165-15-P